DEPARTMENT OF COMMERCE

National Oceanic and Atmospheric Administration

50 CFR Part 622

RIN 0648-AW19

Fisheries of the Caribbean, Gulf of Mexico, and South Atlantic; Shrimp Fishery off the Southern Atlantic States; Amendment 7

AGENCY: National Marine Fisheries Service (NMFS), National Oceanic and Atmospheric Administration (NOAA), Commerce.

ACTION: Notice of Availability of Amendment 7 to the Fishery Management Plan for the Shrimp Fishery of the South Atlantic Region; request for comments.

SUMMARY: The South Atlantic Fishery Management Council (Council) has submitted Amendment 7 to the Fishery Management Plan for the Shrimp Fishery of the South Atlantic Region (FMP) for review, approval, and implementation by NMFS. Amendment 7 proposes actions to rename the commercial vessel permit and the limited access endorsement; remove the requirement for a minimum level of landings for the renewal of a limited access endorsement; allow the reissue of a limited access endorsement that had been terminated because of failure to meet that minimum level; allow the reissue of an endorsement that had been terminated because of failure to renew it in a timely manner; and require the submission of economic data by participants in the fishery. The measures contained in the subject amendment are intended to maintain a viable rock shrimp fishery in the South Atlantic region.

DATES: Comments must be received no later than 5 p.m., eastern time, on July 31, 2009.

ADDRESSES: You may submit comments on the proposed rule, identified by “0648-AW19”, by any one of the following methods:

• Electronic Submissions: Submit all electronic public comments via the Federal eRulemaking Portal http://www.regulations.gov.

• Fax: 727-824-5308, Attn: Kate Michie.

• Mail: Kate Michie, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2008-0319” in the keyword search, then check the box labeled “Select to find documents accepting comments or submissions”, then select “Send a Comment or Submission.” NMFS will accept anonymous comments (enter N/A in the required fields, if you wish to remain anonymous). Attachments to electronic comments will be accepted in Microsoft Word, Excel, WordPerfect, or Adobe PDF file formats only.

Copies of Amendment 7 may be obtained from the South Atlantic Fishery Management Council, 4055 Faber Place, Suite 201, North Charleston, SC 29405; phone: 843-571-4366 or 866-SAFMC-10 (toll free); fax: 843-769-4520; e-mail: safmc@safmc.net. Amendment 7 includes an Environmental Assessment, an Initial Regulatory Flexibility Analysis, a Regulatory Impact Review, and a Social Impact Assessment/Fishery Impact Statement.

FOR FURTHER INFORMATION CONTACT: Kate Michie, telephone: 727-824-5305; fax: 727-824-5308; e-mail: Kate.Michie@noaa.gov.

SUPPLEMENTARY INFORMATION: The South Atlantic shrimp fishery is managed under the FMP. The FMP was prepared by the Council and implemented by NMFS under the authority of the Magnuson-Stevens Fishery Conservation and Management Act (Magnuson-Stevens Act) by regulations at 50 CFR part 622.

Background

Amendment 5 to the FMP established a limited access program for the rock shrimp fishery in federal waters south of the South Carolina/Georgia state line. In 2003, endorsements were issued to vessels with at least 15,000 pounds of rock shrimp landings in any one year during 1997-2000. A vessel must land at least 15,000 pounds of rock shrimp in at least one year during any four consecutive years or the endorsement cannot be renewed. The Rock Shrimp Advisory Panel (AP) suggested these landings requirements because they were concerned about the high number of latent permit holders and vessels that fished infrequently. The limited access program criteria were set so the core group of participants would remain in the fishery while overall effort was reduced. Of the 155 vessels issued limited access endorsements, 105 are currently active, 20 are renewable, and 30 are non-renewable. Therefore, a maximum of 125 endorsements are or may become active in the rock shrimp fishery under the current permit requirements.

The need for action through Amendment 7 to the FMP is based on the desire to maintain a viable rock shrimp fishery in the South Atlantic region. The AP suggested the fishery could support no more than 150 vessels. However, fewer vessels may not fully utilize the resource. The Council has determined that actions implemented through Amendment 5 have resulted in the desired reduction in capacity and may no longer be necessary in light of changes in the rock shrimp fishery over the past six years.

The Council is primarily concerned about the 15,000-pound landing requirement because 43 vessels have not met the requirement after the first four years of the program. The AP suggested the Council consider whether this provision should be retained, revoked, revised, or possibly extended (i.e. allow vessels a longer time period to meet the requirement). In addition, the AP suggested reinstatement of endorsements lost as a result of not meeting the landings requirement.

Another issue involves the requirement for vessel owners to renew their vessel's endorsement within one year after the endorsement's expiration date to retain their eligibility. The Council is concerned about confusion over the rock shrimp limited access endorsement as implemented in the final rule for Amendment 5 versus the limited access permit as specified in Amendment 5. In this case, some fishermen did not realize they needed both the open access permit and the limited access endorsement.

In total, 73 vessels will or have been eliminated from the rock shrimp fishery under current regulations due to not meeting the 15,000-pound requirement, the renewal period, or both. Thus 47 percent of the 155 endorsements originally issued may be eliminated if no changes are made to the current requirements and even more could be eliminated in the future for the same reasons.

In the Gulf of Mexico shrimp fishery, participants are selected each year to provide economic data to NMFS. Similar data for the South Atlantic shrimp fishery would allow NMFS to conduct analyses required by the Magnuson-Stevens Act and other applicable law. These data would also allow the Council to fully understand how proposed management measures would impact shrimp fishermen and dealers.

Amendment 7 proposes to rename the commercial vessel permit and the limited access endorsement; remove the requirement for a minimum level of landings for the renewal of a limited access endorsement; allow the reissue of a limited access endorsement that had been terminated because of failure to meet that minimum level; allow the reissue of an endorsement that had been terminated because of failure to renew it in a timely manner; and require the submission of economic data by participants in the fishery if selected.

The Council has submitted Amendment 7 for Secretarial review, approval, and implementation. NMFS' decision to approve, partially approve, or disapprove Amendment 7 will be based, in part, on consideration of comments, recommendations, and information received during the comment period on this notice of availability. After consideration of these factors, and consistency with the Magnuson-Stevens Act and other applicable laws, NMFS will publish a notice of agency action in the Federal Register announcing the Agency's decision to approve, partially approve, or disapprove Amendment 7, and the associated rationale.

Consideration of Public Comments

Public comments received by 5 p.m. eastern time, on July 31, 2009, will be considered by NMFS in the approval/disapproval decision regarding Amendment 7.

Authority: 16 U.S.C. 1801 et seq.

Dated: May 26, 2009
Kristen C. Koch,
Acting Director, Office of Sustainable Fisheries, National Marine Fisheries Service.

[FR Doc. E9-12640 Filed 5-29-09; 8:45 am]

BILLING CODE 3510-22-S